DEPARTMENT OF HEALTH AND HUMAN SERVICES

Centers for Disease Control and Prevention

CDC/HRSA Advisory Committee on HIV and STD Prevention and Treatment

In accordance with section l0(a)(2) of the Federal Advisory Committee Act (Pub. L. 92-463), the Centers for Disease Control and Prevention and the Health Resources and Services Administration announce the following meeting of the aforementioned committee.

Times and Dates: 8 a.m. - 5 p.m., May 7, 2007. 8 a.m. - 12:30 p.m., May 8, 2007.

Place: Embassy Suites Hotel Atlanta Buckhead, 3285 Peachtree Road, NE., Atlanta, Georgia, Telephone 404/261-7733, Fax 404/262-0522.

Status: Open to the public, limited only by the space available. The meeting room will accommodate approximately 100 people.

Purpose: This Committee is charged with advising the Director, CDC and the Administrator, HRSA, regarding activities related to prevention and control of HIV/AIDS and other STDs, the support of health care services to persons living with HIV/AIDS, and education of health professionals and the public about HIV/AIDS and other STDs.

Matters To Be Discussed: Agenda items include issues pertaining to (1) Priorities for STD Prevention (2) HIV Strategic Plan Implementation and (3) Leveraging Federal Partnerships for HIV/STD Prevention. Agenda items are subject to change as priorities dictate.

Contact Person for More Information: Margie Scott-Cseh, Committee Management Specialist, National Center for HIV, STD, and TB Prevention, 1600 Clifton Road, NE., Mailstop E-07, Atlanta, Georgia 30333. Telephone 404/639-8317, Fax 404/639-8600, e-mail zkr7@cdc.gov.

The Director, Management Analysis and Services Office, has been delegated the authority to sign Federal Register Notices pertaining to announcements of meetings and other committee management activities, for both the Centers for Disease Control and Prevention and the Agency for Toxic Substances and Disease Registry.

Dated: March 14, 2007.
Elaine L. Baker,
Acting Director, Management Analysis and Services Office, Centers for Disease Control and Prevention.

[FR Doc. 07-1374 Filed 3-20-07; 8:45 am]

BILLING CODE 4163-18-P